DEPARTMENT OF COMMERCE

National Oceanic and Atmospheric Administration

[I.D. 011604A]

Endangered Species; File No. 1450

AGENCY: National Marine Fisheries Service (NMFS), National Oceanic and Atmospheric Administration (NOAA), Commerce.

ACTION: Receipt of application.

SUMMARY: Notice is hereby given that Jane Provancha, Dynamac Corporation, 100 Spaceport Way, Cape Canaveral, FL 32920, has applied in due form for a permit to take green sea turtles (Chelonia mydas) and loggerhead sea turtles (Caretta caretta) for purposes of scientific research.

DATES: Written or telefaxed comments must be received on or before February 25, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Sarah Wilkin (301) 713-2289 or Patrick Opay (301) 713-1401.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to utilize tangle net methodology to study the abundance and distribution of green and loggerhead sea turtles in the waters of Mosquito Lagoon, Indian River Lagoon, Volusia and Brevard Counties, FL. The purpose of the research is to provide a basic understanding of the abundance, location, and movement of sea turtles within this estuarine ecosystem. The proposed research project would be a continuation of work that has been conducted by these researchers in this area since 1995. This research will help resource managers develop optimal management strategies in order to conserve and protect sea turtles and their habitat; recapture data provides important information on the biology of these species, including health condition, growth rates, residency and survival. Turtles will be captured in a large mesh (9 in/22cm) tangle net. Turtles will be retained on a vessel for the collection of morphometric data, flipper and PIT tagging, photographs, blood sampling, lavage, and release. Forty green sea turtles and 15 loggerhead turtles of all sizes will be captured annually. Twelve of the 40 captured green sea turtles will have sonic transmitters glued to the carapace. These turtles will be tracked and monitored using moored receivers. The requested duration of this permit is 5 years.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: January 16, 2004.
Carrie W. Hubard,
Acting Chief, Permits, Conservation and Education Division, Office of Protected Resources, National Marine Fisheries Service.

[FR Doc. 04-1570 Filed 1-23-04; 8:45 am]

BILLING CODE 3510-22-S